DEPARTMENT OF STATE

22 CFR Parts 120, 121, 122, 123, 124, 125, 126, 127, 128, 129 and 130

[Public Notice: 10799]

RIN 1400-AE29

Consolidation of Exemptions in the International Traffic in Arms Regulations

AGENCY: Department of State.

ACTION: Advance notice of proposed rulemaking.

SUMMARY: As part of an ongoing effort to better organize the International Traffic in Arms Regulations (ITAR), the Directorate of Defense Trade Controls (DDTC) seeks public comment on consolidating and clarifying the various exemptions located throughout the regulations. DDTC does not seek input on whether individual exemptions in the ITAR should be expanded or eliminated, but rather requests comments regarding: Which exemptions, if any, are redundant or could be consolidated; and which exemptions, if any, contain language that introduces significant ambiguity or hinders the exemption's intended use.

DATES: The Department of State will accept comments in response to this notice until August 26, 2019.

ADDRESSES: Interested parties may submit comments by one of the following methods:

• Email: DDTCPublicComments@state.gov with the subject line, “Request for Comments Regarding Consolidation of ITAR Exemptions.”

• Internet: At www.regulations.gov, search for this notice using its docket number, DOS-2019-0022.

Comments submitted through www.regulations.gov will be visible to other members of the public; the Department will publish responsive comments on the DDTC website (www.pmddtc.state.gov). Therefore, commenters are cautioned not to include proprietary or other sensitive information in their comments.

FOR FURTHER INFORMATION CONTACT: John Foster, Regulatory and Multilateral Affairs, Office of Defense Trade Controls Policy, Department of State, telephone (202) 663-2811 email DDTCResponseTeam@state.gov. ATTN: Consolidation of ITAR Exemptions.

SUPPLEMENTARY INFORMATION: The Directorate of Defense Trade Controls (DDTC) of the Department of State regulates the export and temporary import of defense articles and services under the Arms Export Control Act (AECA) and its implementing regulations, the International Traffic in Arms Regulations (ITAR) (22 CFR parts 120-130). DDTC is engaged in an ongoing effort to organize the ITAR more effectively in order to further streamline and clarify the subchapter. As part of that effort, DDTC seeks public comment on various exemptions located throughout the ITAR. Exemptions authorize the export, reexport, retransfer, temporary import, or brokering of a specific defense article or defense service without a license (as defined in the ITAR) or other written authorization.

DDTC does not seek to broaden or eliminate (unless determined to be redundant) existing exemptions in a rulemaking on this issue. Instead, its goal is to consolidate the various exemptions located throughout the ITAR in a single location and to organize them more effectively. All commenters are encouraged to provide comments that are responsive specifically to the prompts set forth below.

The Department requests comment on the topics below. Excluding the exemptions currently located in Part 126 of the ITAR:

1. Which exemptions, if any, are redundant or could be consolidated?

2. Which exemptions, if any, contain language that introduces significant ambiguity or hinders the exemption's intended use?

If the Department issues a notice of proposed rulemaking on this topic, it will address responsive comments at that time.

R. Clarke Cooper,
Assistant Secretary, Political-Military Affairs, Department of State.

[FR Doc. 2019-15540 Filed 7-25-19; 8:45 am]

BILLING CODE 4710-25-P